DEPARTMENT OF HEALTH AND HUMAN SERVICES

Administration for Children and Families

Proposed Information Collection Activity; Comment Request

Title: Center for States Evaluation Ancillary Data Collection.

OMB No.: New Collection.

Description: The Evaluation of the Child Welfare Capacity Building Collaborative, Center for States is sponsored by the Children's Bureau, Administration for Children and Families of the U.S. Department of Health and Human Services. The purpose of this evaluation is to respond to a set of cross-cutting evaluation questions posed by the Children's Bureau. This new information collection is an ancillary part of a larger data collection effort being conducted for the evaluation of the Child Welfare Capacity Building Collaborative. Two groups of instruments for the larger evaluation have already been submitted, and requests for clearance have been submitted to the Office of Management and Budget (see Federal Register Volume 80, No. 211, November 2, 2015; Federal Register Volume 81, No. 41, March 2, 2016; Federal Register Volume 81, No. 111, June 9, 2016; Federal Register Volume 81, No. 186, September 26, 2016), with the first group of instruments approved on August 31, 2016. This notice details a group of instruments that are specific only to the Center for States. The instruments focus on (1) evaluating an innovative approach to engaging professionals in networking and professional development through virtual conferences, (2) understanding fidelity to and effectiveness of the Center for States' Capacity Building Model, and (3) capturing consistent information during the updated annual assessment process focused on related contextual issues impacting potential service delivery such as implementation of new legislation.

Respondents: Respondents of these data collection instruments will include child welfare agency staff and stakeholders who directly receive services.

Annual Burden Estimates
Instrument | Number of respondents | Number of responses per respondent | Average burden hours per response | Total annual burden hours
Virtual Conference (VC) Session Surveys | 450 | 6 | .08 | 216
VC Focus Group Guide | 30 | 1 | 1 | 30
VC Interview Guide | 20 | 1 | .5 | 10
VC Registration Data | 1000 | 1 | .03 | 30
Tailored Services Practice Model Survey | 130 | 1 | .25 | 32.5
Assessment Observation—group debrief | 50 | 1 | .25 | 12.5
Service Delivery and Tracking and Adjustment Observation—group debrief | 45 | 1 | .25 | 11.3
Assessment and Service Delivery and Tracking and Adjustment State Lead Interviews | 20 | 1 | .5 | 10
Annual Assessment Update (8 systematic questions) | 54 | 1 | .08 | 4.3

Estimated Total Annual Burden Hours: 356.6.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C Street SW., Washington, DC 20201. Attn: ACF Reports Clearance Officer. Email address: infocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2016-28678 Filed 11-28-16; 8:45 am]

BILLING CODE 4184-01-P